DEPARTMENT OF THE INTERIOR

Fish and Wildlife Service

[FWS-R8-ES-2010-N278; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before January 19, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-27460A

Applicant: Brian A. Zitt, Santa Ana, California.

The applicant requests a permit to take (survey, electroshock, capture, handle, and release) the Santa Ana sucker (Catostomus santaanae) and take (survey, capture, handle, and release) the arroyo toad (Bufo californicus) in conjunction with surveys and population monitoring activities throughout the range of each species in California, for the purpose of enhancing their survival.

Permit No. TE-088197

Applicant: High Mesa Research, Valdez, New Mexico.

The applicant requests an amendment to an existing permit (September 5, 2006, 71 FR 52336) to take (harass by survey) the southwestern willow flycatcher (Empidonax traillii extimus) in conjunction with surveys and population monitoring activities throughout the range of the species in California and Nevada for the purpose of enhancing its survival.

Permit No. TE-835549

Applicant: Charles H. Black, San Diego, California.

The applicant requests an amendment to an existing permit (March 6, 2000, 65 FR 11798) to remove/remove to possession California Orcutt grass (Orcuttia californica) and willowy monardella (Monardella linoides subsp. viminea) in conjunction with population monitoring, germination, and growth studies from Marine Corps Air Station Miramar, California, for the purpose of enhancing their survival.

Permit No. TE-29658A

Applicant: Cindy Dunn, San Diego, California.

The applicant requests a permit to take (survey by pursuit) the Quino checkerspot butterfly (Euphydryas editha quino) in conjunction with surveys throughout the range of the species in California for the purpose of enhancing its survival.

Permit No. TE-776608

Applicant: Monk and Associates Incorporated, Walnut Creek, California.

The applicant requests an amendment to an existing permit (October 7, 2002, 67 FR 62492) to take (install and remove egg laying substrates within occupied habitat) the California tiger salamander (Ambystoma californiense) in conjunction with research throughout the range of the species in California for the purpose of enhancing its survival.

Permit No. TE-29522A

Applicant: Kenneth L. Gilliland, Ventura, California.

The applicant requests a permit to take (survey, locate and monitor nests, population monitor, collect carcasses and infertile eggs) the California least tern (Sterna antillarum browni) and take (monitor nests, collect carcasses and infertile eggs) the least Bell's vireo (Vireo bellii pusillus) in conjunction with surveys and population monitoring activities at the Guadalupe Restoration Project, San Luis Obispo County, California, for the purpose of enhancing their survival.

Permit No. TE-082908

Applicant: Melanie S. Rocks, Woodland, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi), and take (survey by pursuit) the Quino checkerspot butterfly (Euphydryas editha quino) in conjunction with survey activities throughout the range of each species in California for the purpose of enhancing their survival.

We invite public review and comment on each of these recovery permit applications. Comments and materials we receive will be available for public inspection, by appointment, during normal business hours at the address listed in the ADDRESSES section of this notice.

Michael Long,
Acting Regional Director, Region 8, Sacramento, California.

[FR Doc. 2010-31907 Filed 12-17-10; 8:45 am]

BILLING CODE 4310-55-P